DEPARTMENT OF LABOR

Employment and Training Administration

[[TA-W-83,358A]

Leased Workers From Aerospace Logistic Services, Butler Service, Global Contract Professionals, Iqnavigator, PDS Technical Services, S.M.A.R.T., Volt Services Group, Comforce Technical Services, Donatech Corp., Five Star Technical Services, Johnson Service Group, Strom Aviation and STS Services Working On-Site at Textron, Inc., Formerly Known as Beechcraft Corporation Wichita, Kansas; Amended Certification Regarding Eligibility To Apply for Worker Adjustment Assistance

In accordance with Section 223 of the Trade Act of 1974, as amended (“Act”), 19 U.S.C. 2273, the Department of Labor issued a Certification of Eligibility to Apply for Worker Adjustment Assistance on May 6, 2014, applicable to leased workers from Aerospace Logistic Services, Butler Service, Global Contract Professionals, Iqnavigator, PDS Technical Services, S.M.A.R.T., Volt Services Group, Comforce Technical Services, Donatech Corp., Five Star Technical Services, Johnson Service Group, Strom Aviation and STS Services, working on-site at Textron, Inc., formerly known as Beechcraft Corporation, Wichita, Kansas. The Departmnet's Notice of Determination was published in the Federal Register on June 6, 2014 (79 FR 32328).

At the request of a State Workforce Official, the Department reviewed the certification for workers of the subject firm. The workers were engaged in the production of aircraft.

The investigation confirmed that workers leased from Aerospace Logistic Services were employed on-site at Textron, Inc., formerly known as Beechcraft Corporation, Wichita, Kansas. The Department has determined that these workers were sufficiently under the control of the subject firm to be considered leased workers.

Based on these findings, the Department is amending this certification to include workers leased from Aerospace Logistic Services, working on-site at the Wichita, Kansas location of Textron, Inc.

The amended notice applicable to TA-W-83,358 is hereby issued as follows:

“All workers of Textron, Inc., formerly known as Beechcraft Corporation, Wichita, Kansas, (TA-W-83,358) who became totally or partially separated from employment on or after February 15, 2013, through May 6, 2016, and all workers in the group threatened with total or partial separation from the date of certification through May 6, 2016, are eligible to apply for adjustment assistance under Chapter 2 of Title II of the Trade Act of 1974, as amended,

AND

All on-site leased workers from Aerospace Logistic Services, Butler Service, Global Contract Professionals, IQnavigator, PDS Technical Services, S.M.A.R.T., Volt Services Group, Comforce Technical Services, Donatech Corp., Five Star Technical Services, Johnson Service Group, Strom Aviation, STS Services, working on-site at Textron, Inc., formerly known as Beechcraft Corporation, Wichita, Kansas, (TA-W-83,358A) who became totally or partially separated from employment on or after December 31, 2012 through May 6, 2016, and all workers in the group threatened with total or partial separation from the date of certification through May 6, 2016, are eligible to apply for adjustment assistance under Chapter 2 of Title II of the Trade Act of 1974, as amended.”

Signed in Washington, DC, this 6th day of February, 2015.
Michael W. Jaffe,
Certifying Officer, Office of Trade Adjustment Assistance.

[FR Doc. 2015-04007 Filed 2-25-15; 8:45 am]

BILLING CODE 4510-FN-P